DEPARTMENT OF COMMERCE

National Oceanic and Atmospheric Administration

[I.D. 091500A]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene separate public meetings of its Shrimp Advisory Panel(AP) and its Standing and Special Shrimp Scientific and Statistical Committees (SSCs).

DATES: The Shrimp AP meeting will be held on Monday, October 9, 2000, beginning at 9 a.m. The Standing and Special Shrimp SSCs’ meeting will be held on Tuesday, October 10, 2000, beginning at 10 a.m.

ADDRESSES: The meetings will be held at the New Orleans Airport Hilton Hotel, 901 Airline Highway, Kenner, Louisiana; telephone 504-469-5000.

Council address: Gulf of Mexico Fishery Management Council, 3018 U.S. Highway 301 North, Suite 1000, Tampa, Florida, 33619.

FOR FURTHER INFORMATION CONTACT: Dr. Richard Leard, Senior Fishery Biologist, at the Gulf of Mexico Fishery Management Council, 3018 U.S. Highway 301 North, Suite 1000, Tampa, Florida, 33619; telephone 813-228-2815.

SUPPLEMENTARY INFORMATION: The Shrimp AP and the Standing and Special Shrimp SSCs will convene to review Draft Amendment 11 to the Shrimp Fishery Management Plan. This amendment contains alternatives for requiring shrimp vessel permits and/or shrimp vessel registration, operator permits, and prohibiting trap gear in the royal red shrimp fishery of the exclusive economic zone (EEZ). The Shrimp AP may develop recommendations to the Council regarding these alternatives. The Shrimp AP also will discuss, and possibly make recommendations to define, “to the extent practicable” under the Magnuson-Stevens Fishery Conservation and Management Act, that requires the Regional Fishery Management Councils to reduce bycatch “to the extent practicable.”

The Shrimp AP consists principally of commercial shrimp fishermen, dealers, and association representatives.

Although other non-emergency issues not on the agenda may come before these groups for discussion, in accordance with the Magnuson-Stevens Fishery Conservation and Management Act, those issues may not be the subject of formal action during these meetings. Actions of these groups will be restricted to those issues specifically identified in the agendas and any issues arising after publication of this notice that require emergency action under Section 305(c) of the Magnuson-Stevens Act, provided the public has been notified of the Gulf of Mexico Fishery Management Council's intent to take action to address the emergency.

Copies of the agenda can be obtained by calling 813-228-2815. This meeting is physically accessible to people with disabilities. Requests for sign language interpretation or other auxiliary aids should be directed to Anne Alford at the Council (see ADDRESSES) by October 2, 2000.

Dated: September 18, 2000.
Richard W. Surdi,
Acting Director, Office of Sustainable Fisheries, National Marine Fisheries Service.

[FR Doc. 00-24457 Filed 9-21-00; 8:45 am]

BILLING CODE 3510-22-S